NATIONAL ARCHIVES AND RECORDS ADMINISTRATION

[NARA-2022-015]

Freedom of Information Act (FOIA) Advisory Committee Meeting

AGENCY: Office of Government Information Services (OGIS), National Archives and Records Administration (NARA).

ACTION: Notice of Federal advisory committee meeting.

SUMMARY: We are announcing an upcoming Freedom of Information Act (FOIA) Advisory Committee meeting in accordance with the Federal Advisory Committee Act and the second United States Open Government National Action Plan.

DATES: The meeting will be on December 9, 2021, from 10:00 a.m. to 1:00 p.m. ET. You must register by 11:59 p.m. ET December 7, 2021, to attend the meeting.

ADDRESSES: This meeting will be a virtual meeting. We will send access instructions to those who register according to the instructions below.

FOR FURTHER INFORMATION CONTACT: Kirsten Mitchell, Designated Federal Officer for this committee, by email at foia-advisory-committee@nara.gov, or by telephone at 202.741.5775.

SUPPLEMENTARY INFORMATION: Agenda and meeting materials: We will post all meeting materials at https://www.archives.gov/ogis/foia-advisory-committee/2020-2022-term. This will be the sixth meeting of the 2020-2022 committee term. The purpose of this meeting will be to hear updates and consider any draft recommendations from the four Subcommittees: Classification, Legislation, Process, and Technology.

Procedures: This virtual meeting is open to the public in accordance with the Federal Advisory Committee Act (5 U.S.C. app. 2). You must register in advance through this Eventbrite link https://foiaac-mtg-dec-9-2021.eventbrite.com if you wish to attend. Registration opens November 29, 2021. You must provide an email address so that we can provide you with information to access the meeting online. To request additional accommodations (e.g., a transcript), email foia-advisory-committee@nara.gov or call 202.741.5775.

Tasha Ford,
Committee Management Officer.

[FR Doc. 2021-25855 Filed 11-24-21; 8:45 am]

BILLING CODE 7515-01-P